FEDERAL MINE SAFETY AND HEALTH REVIEW COMMISSION

Sunshine Act Meetings

TIME AND DATE: 10 a.m., Thursday, January 8, 2026.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. Cactus Canyon Quarries, Inc., Docket Nos. CENT 2023-0045, CENT 2023-0046, CENT 2023-0047, CENT 2023-0048, CENT 2023-0049, CENT 2023-0050, CENT 2023-0051, CENT 2023-0052, CENT 2023-0053, CENT 2023-0054, CENT 2023-0089 (Issues include: (1) whether the Judge erred in denying a motion for recusal filed by the operator; and (2) whether a facility constitutes a “mine” under section 3(h)(1)(c) of the Mine Act.)

Any person attending this meeting who requires special accessibility features and/or auxiliary aids, such as sign language interpreters, must inform the Commission in advance of those needs. Subject to 29 CFR 2706.150(a)(3) and 2706.160(d).

CONTACT PERSON FOR MORE INFORMATION: Rory P. Smith (202) 525-8649 / (202) 708-9300 for TDD Relay / 1-800-877-8339 for toll free.

Phone Number for Listening to Meeting: 1-(866) 236-7472. Passcode: 678-100.

Authority: 5 U.S.C. 552b.

Dated: December 16, 2025.
Rory P. Smith,
Attorney-Advisor.

[FR Doc. 2025-23291 Filed 12-16-25; 4:15 pm]

BILLING CODE 6735-01-P